DEPARTMENT OF THE TREASURY

Office of Foreign Assets Control

Proposed Collection; Comment Request for Persons Providing Remittance Forwarding Services to Cuba

AGENCY: Office of Foreign Assets Control, Treasury.

ACTION: Notice and request for comments.

SUMMARY: The Department of the Treasury, as part of its continuing effort to reduce paperwork and respondent burden, invites the general public and other Federal agencies to comment on proposed and/or continuing information collections, as required by the Paperwork Reduction Act of 1995, Public Law 104-13 (44 U.S.C. 3506(c)(2)(A)). Currently, the Office of Foreign Assets Control (OFAC) within the Department of the Treasury is soliciting comments concerning OFAC's information collection requirements for persons providing remittance forwarding services to Cuba, which are contained within the Cuban Assets Control Regulations set forth at 31 CFR part 515.

DATES: Written comments must be submitted on or before April 4, 2016 to be assured of consideration.

ADDRESSES: You may submit comments by any of the following methods:

Federal eRulemaking Portal: www.regulations.gov. Follow the instructions on the Web site for submitting comments.

Fax: Attn: Request for Comments (Persons Providing Remittance Forwarding Services to Cuba) 202-622-1657.

Mail: Attn: Request for Comments (Persons Providing Remittance Forwarding Services to Cuba), Office of Foreign Assets Control, Department of the Treasury, 1500 Pennsylvania Avenue NW., Washington, DC 20220.

Instructions: All submissions received must include the agency name and the Federal Register Doc. number that appears at the end of this document. Comments received will be made available to the public via regulations.gov or upon request, without change and including any personal information provided.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION: Title: Persons Providing Remittance Forwarding Services to Cuba.

OMB Number: 1505-0167.

Abstract: The information is required of persons subject to the jurisdiction of the United States who make remittances to persons in Cuba pursuant to the general licenses in section 515.570 of the Cuban Assets Control Regulations, 31 CFR part 515 (CACR). The information will be used by OFAC to monitor compliance with regulations governing unlimited family and family inherited remittances, donative remittances, unlimited remittances to religious organizations, remittances to students in Cuba pursuant to an educational license, limited emigration remittances, and periodic remittances from blocked accounts.

Current Actions: As a result of policy changes, which were implemented in regulatory changes published by OFAC on January 16, 2015 (80 FR 2291) and on September 21, 2015 (80 FR 56915), OFAC modified the information collection requirements on Remittance Forwarders (RFs) and removed the suggested form TD F 90-22.52 (Cuban Remittance Affidavit) for the collection of that information as previously approved by OMB (No. 1505-0167). In addition, OFAC removed, among others, the monetary limits on donative remittances to Cuba. As to information collection requirements, OFAC previously required RFs to collect information showing compliance with relevant remittance provisions and/or provide a voluntary remittance affidavit form including, within the relevant category of authorized remittance, the name of the recipient (and if applicable, relation, date of birth, visa number/date) and the remitter's address, contact information, mother's maiden name, and date of birth. OFAC now requires only that persons subject to U.S. jurisdiction providing remittance forwarding services authorized pursuant to 31 CFR 515.570 retain for at least five years from the date of the transaction a certification from each customer indicating the section of 31 CFR part 515 that authorizes the person to send the remittance to Cuba. In addition, banking institutions providing remittance forwarding services must maintain on file the names and addresses of individual remitters, the number and amount of each remittance, and the name and address of each recipient, as applicable.

Type of Review: Revision of a currently approved collection.

Affected Public: Individuals, households, businesses, banking institutions.

Estimated Number of Respondents: 4,000,000.

Estimated Time per Respondent: 1 minute.

Estimated Total Annual Burden Hours: 116,667.

The following paragraph applies to all of the collections of information covered by this notice:

An agency may not conduct or sponsor, and a person is not required to respond to, a collection of information unless the collection of information displays a valid Office of Management and Budget (OMB) control number. Books or records relating to a collection of information must be retained for five years.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information, including the validity of the methodology and assumptions used; (c) ways to enhance the quality, utility, and clarity of the information to be collected; (d) ways to minimize the burden of the collection of information on respondents, including through the use of automated collection techniques or other forms of information technology; and (e) estimates of capital or start-up costs and costs of operation, maintenance, and purchase of services to provide information.

John E. Smith,
Acting Director, Office of Foreign Assets Control.

[FR Doc. 2016-02091 Filed 2-3-16; 8:45 am]

BILLING CODE 4810-AL-P